DEPARTMENT OF COMMERCE

Foreign-Trade Zones Board

[Docket 3-2005]

Foreign-Trade Zone 16—Sault Sainte Marie, MI, Application for Subzone Status, Northern Imports, LLC, (Magnesium and Aluminum Casting)

An application has been submitted to the Foreign-Trade Zones Board (the Board) by the City of Sault Ste. Marie, grantee of FTZ 16, requesting special-purpose subzone status for the magnesium and aluminum casting facilities of Northern Imports, LLC (NI), located in Harbor Springs and Newberry, Michigan. The application was submitted pursuant to the provisions of the Foreign-Trade Zones Act, as amended (19 U.S.C. 81a-81u), and the regulations of the Board (15 CFR Part 400). It was formally filed on January 7, 2005.

The proposed subzone would be composed of two subsidiaries' sites: Site 1 Northern Diecast plant (8 acres/93,000 sq. ft., manufacturing plant)—8582 Moeller Drive, Harbor Springs (Emmet County), Michigan, about 100 miles south of Sault Ste. Marie, Michigan; and, Site 2 Northern Casting Company plant (5 acres/27,000 sq. ft., manufacturing plant)—6641 County Road 392, Newberry (Luce County), about 70 miles west of Sault Ste. Marie. The facilities (250 employees) are used to manufacture magnesium and aluminum automotive parts, parts of domestic appliances, and sporting goods for the U.S. market and export. The application requests FTZ benefits only for NI's export manufacturing activity. (Inverted tariff benefits on foreign magnesium alloy used in production for the U.S. market are expressly excluded from this proposal.) Under the proposed activity, foreign-origin magnesium alloy (HTSUS 8104.19.00; ASTM: AM50A, AM60B, AZ91 D) and aluminum alloy (HTSUS 7601.20.90, duty free) would be used to diecast automotive components (including steering wheels, columns, boxes; spools, diffusers, end caps, mirror brackets, steering wheels, airbag canisters), housings for domestic vacuum cleaners, and archery bows. The foreign-origin alloys would comprise about 90 percent of the finished products' material value. The two facilities can process some 17 million pounds of metal annually. On foreign magnesium alloy that falls within the scope of the Department's antidumping duty orders, the application indicates that all such foreign-origin magnesium alloy would be admitted to the proposed subzone under domestic status (19 CFR 146.43(a)(2); thereby precluding inverted tariff benefits or reduced duty payment on scrap or waste.

FTZ procedures would exempt NI from Customs duty payments on the foreign magnesium alloy not subject to antidumping orders and aluminum alloy used in export production (37% of shipments). NI would be exempt from customs duty payments on foreign magnesium alloy scrap, waste and dross generated during manufacturing of finished products for export (which could be significant). On its domestic sales, the company has elected to forego any inverted tariff benefits on foreign magnesium alloy not subject to antidumping duty orders (these products will be admitted in privileged foreign status (19 CFR 146.41)). The application indicates that subzone status would help improve the facilities' international competitiveness. In accordance with the Board's regulations, a member of the FTZ Staff has been designated examiner to investigate the application and report to the Board.

Public comment on the application is invited from interested parties. Submissions (original and three copies) shall be addressed to the Board's Executive Secretary at the following addresses:

1. Submissions via Express/Package Delivery Services: Foreign-Trade Zones Board, U.S. Department of Commerce, Franklin Court Building-4100W, 1099 14th Street, NW., Washington, DC 20005; or,

2. Submissions via the U.S. Postal Service: Foreign-Trade Zones Board, U.S. Department of Commerce, FCB-4100W, 1401 Constitution Ave., NW., Washington, DC 20230.

The closing period for their receipt is March 21, 2005. Rebuttal comments in response to material submitted during the foregoing period may be submitted during the subsequent 15-day period (to April 4, 2005).

A copy of the application will be available for public inspection at the Office of the Foreign-Trade Zones Board's Executive Secretary at address No. 1 listed above and at the Office of the Port Director, U.S. Customs and Border Protection, International Bridge Plaza, Sault Sainte Marie, MI 49783.

Dated: January 7, 2004.
Dennis Puccinelli,
Executive Secretary.

[FR Doc. 05-1040 Filed 1-18-05; 8:45 am]

BILLING CODE 3510-DS-P